DEPARTMENT OF ENERGY

Federal Energy Regulatory Commission

[Docket No. RP99-286-002]

Granite State Gas Transmission, Inc; Notice of Compliance Filing

April 5, 2000.

Take notice that on March 31, 2000, Granite State Gas Transmission, Inc. (Granite State) tendered for filing as part of its FERC Gas Tariff, Third Revised Volume No. 1, the revised tariff sheets listed below for effectiveness on April 1, 2000.

Substitute First Revised Sheet No. 10

Substitute Fourth Revised Sheet No. 24

Substitute Second Revised Sheet No. 141

Substitute Second Revised Sheet No. 142

Substitute Third Revised Sheet No. 144

Substitute First Revised Sheet No. 145

Substitute First Revised Sheet No. 146

Substitute First Revised Sheet No. 147

Substitute First Revised Sheet No. 148

Substitute First Revised Sheet No. 149

Substitute First Revised Sheet No. 150

Substitute First Revised Sheet No. 441

Granite State explains that the purpose of this filing is to comply with the March 17, 2000, order issued in this proceeding.

Any person desiring to protest this filing should file a protest with the Federal Energy Regulatory Commission, 888 First Street, NE, Washington, DC 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-8906 Filed 4-10-00; 8:45 am]

BILLING CODE 6717-01-M